DEPARTMENT OF DEFENSE

Department of the Navy

Notice of Availability of Government Owned Inventions; Available for Licensing

AGENCY: Department of the Navy, DOD.

ACTION: Notice.

SUMMARY: The inventions listed below are assigned to the United States Government as represented by the Secretary of the Navy and are available for licensing by the Department of the Navy.

The following inventions are available for licensing:

U.S. Patent Application Serial No.(s) 10/209,268; 10/209,265; 10/209,266; and 10/209,267, entitled “A Nofoam System for testing a foam delivery system on a vehicle”. Navy Case No.(s) 83,826; 84,013; 84,014; and 84,015.

ADDRESSES: Requests for copies of the patent application cited should be directed to the Naval Research Laboratory, Code 3008.2, 4555 Overlook Ave, SW., Washington, DC 20375-5320 and must include the Navy Case number.

FOR FURTHER INFORMATION CONTACT: Dr. Richard H. Rein, Head, Technology Transfer Office, NRL, Code 1004, 4555 Overlook Ave, SW., Washington, DC 20375-5320, telephone (202) 767-7230.

(Authority: 35 U.S.C. 207, 37 CFR part 404.)
Dated: September 18, 2002.
R.E. Vincent II,
Lieutenant Commander, Judge Advocate General's Corps, U.S. Navy, Federal Register Liaison Officer.

[FR Doc. 02-24583 Filed 9-26-02; 8:45 am]

BILLING CODE 3810-FF-P